DEPARTMENT OF VETERANS AFFAIRS

[OMB Control No. 2900-NEW]

Agency Information Collection Activity: Veterans Experience Access Survey Questions Scheduling Appointment: Survey Reporting

AGENCY: Veterans Experience Office (VEO), Department of Veterans Affairs.

ACTION: Notice.

SUMMARY: Veterans Experience Office (VEO), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 27, 2017.

ADDRESSES: Submit written comments on the collection of information through Federal Docket Management System (FDMS) at www.Regulations.gov or to Office of Management and Budget, Attn: VA Desk Officer; 725 17th St. NW., Washington, DC 20503 or sent through electronic mail to oira_submission@omb.eop.gov. Please refer to “OMB Control No. 2900-NEW” in any correspondence. During the comment period, comments may be viewed online through FDMS.

FOR FURTHER INFORMATION CONTACT: Marcelle Saab 202-461-0000.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VEO invites comments on: (1) Whether the proposed collection of information is necessary for the proper performance of VEO's functions, including whether the information will have practical utility; (2) the accuracy of VEO's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Veterans Experience Access Survey Questions Scheduling Appointment: Survey Reporting.

OMB Control Number: 2900-NEW.

Type of Review: Approval for public dissemination of survey results.

Abstract: Veterans Experience Access Outpatient Survey Questions Scheduling Appointment is used to gather near real time feedback about specific interactions Veterans have with the Department of Veterans Affairs regarding their Outpatient medical experiences. The data collected will be publicly disseminated.

Affected Public: Individuals.

Estimated Annual Burden: 30,000 hours annually.

Estimated Average Burden per Respondent: 1 minute.

Frequency of Response: Once.

Estimated Number of Respondents: 1.8 million annually.

By direction of the Secretary.
Cynthia Harvey-Pryor,
Department Clearance Officer, Office of Quality, Privacy and Risk, Department of Veterans Affairs.

[FR Doc. 2017-20769 Filed 9-27-17; 8:45 am]

BILLING CODE 8320-01-P